DEPARTMENT OF COMMERCE

International Trade Administration

[A-405-803, A-421-811, A-401-808]

Purified Carboxymethylcellulose From Finland, the Netherlands, and Sweden: Final Results of the Expedited First Sunset Reviews of the Antidumping Duty Orders

AGENCY: Import Administration, International Trade Administration, Department of Commerce.

SUMMARY: On June 2, 2010, the Department of Commerce (the Department) initiated first sunset reviews of the antidumping duty orders on purified carboxymethylcellulose (CMC) from, inter alia, Finland, the Netherlands, and Sweden, pursuant to section 751(c) of the Tariff Act of 1930, as amended (the Act). The Department has conducted expedited (120-day) sunset reviews of the Finland, the Netherlands, and Sweden antidumping duty orders pursuant to 19 CFR 351.218(e)(1)(ii)(C)(2).¹ As a result of these sunset reviews, the Department finds that revocation of the antidumping duty orders would be likely to lead to continuation or recurrence of dumping.

¹ With respect to the antidumping duty order on CMC from Mexico, the Department is conducting a full sunset review, the preliminary results of which were signed on September 20, 2010. See Purified Carboxymethylcellulose from Mexico: Preliminary Results of the First Five-Year (“Sunset”) Review of Antidumping Duty Order, 75 FR 60084 (September 29, 2010).

FOR FURTHER INFORMATION CONTACT: Dena Crossland or Angelica Mendoza, AD/CVD Operations, Office 7, Import Administration, International Trade Administration, U.S. Department of Commerce, 14th Street and Constitution Avenue, NW., Washington, DC 20230; telephone: (202) 482-3362 or (202) 482-3019, respectively.

SUPPLEMENTARY INFORMATION:

Background

On June 2, 2010, the Department published in the Federal Register the notice of initiation of the sunset reviews of the antidumping duty orders on CMC from Finland, the Netherlands, Mexico, and Sweden, pursuant to section 751(c) of the Act. See Initiation of Five-Year (“Sunset”) Review, 75 FR 30777 (June 2, 2010) (Notice of Initiation).

The Department received a notice of intent to participate from domestic interested party Aqualon Company (Aqualon) ² within the deadline specified in 19 CFR 351.218(d)(1)(i). Aqualon claimed interested party status under section 771(9)(C) of the Act, as the sole manufacturer of a domestic-like product in the United States.

² Aqualon Company is a division of Hercules Incorporated.

The Department received adequate substantive responses to the Notice of Initiation from Aqualon within the 30-day deadline specified in 19 CFR 351.218(d)(3)(i). We received no substantive responses from respondent interested parties with respect to the antidumping duty orders on CMC from Finland and Sweden.

On July 2, 2010, respondent Akzo Nobel filed a response concerning the sunset review of CMC from the Netherlands. Using the data provided by Aqualon in its July 1, 2010, substantive response, and data provided by Akzo Nobel in its July, 2, 2010, response, the Department found that Akzo Nobel accounted for less than 50 percent of exports of subject merchandise from the Netherlands. On July 22, 2010, the Department determined that Akzo Nobel's response was not adequate because it did not account for more than 50 percent of the total exports of subject merchandise to the United States over the relevant five-year period as required by 19 CFR 351.218(e)(1)(ii)(A). See Memorandum to Richard O. Weible, Director, AD/CVD Operations, Office 7, “Adequacy Determination in the First Five-Year `Sunset Review' (2005 through 2009) of the Antidumping Duty Order on Purified Carboxymethylcellulose from the Netherlands,” dated July 22, 2010.

As a result, pursuant to 19 CFR 351.218(e)(1)(ii)(C)(2), the Department determined that it would conduct expedited (120-day) sunset reviews of the antidumping duty orders on CMC from Finland, the Netherlands, and Sweden and notified the U.S. International Trade Commission. See Letter to Ms. Catherine DeFilippo, Director, Office of Investigations, U.S. International Trade Commission, from James Maeder, Director, Office 2, AD/CVD Operations, entitled “Expedited and Full Sunset Reviews of the Antidumping Duty Orders Initiated in June 2010,” dated July 22, 2010.

On September 15, 2010, the Department contacted Aqualon regarding its reference to Harmonized Tariff Schedule of the United States (HTSUS) number 3913.31.00.10 at page 12 of the Appendix of its substantive response, dated July 1, 2010. Aqualon stated on September 15, 2010, that it had mistakenly referenced the wrong HTSUS number in its substantive response and intended to reference HTSUS number 3912.31.00.10. See Memorandum to the File from Dena Crossland, Regarding Preliminary Results of First Sunset Review of the Antidumping Duty Order on Purified Carboxymethylcellulose from Finland, the Netherlands, and Sweden; Correction to Domestic Interested Party's July 1, 2010, Substantive Response, dated September 23, 2010.

Scope of the Orders

The merchandise covered by the orders is all purified CMC, sometimes also referred to as purified sodium CMC, polyanionic cellulose, or cellulose gum, which is a white to off-white, non-toxic, odorless, biodegradable powder, comprising sodium CMC that has been refined and purified to a minimum assay of 90 percent. Purified CMC does not include unpurified or crude CMC, CMC Fluidized Polymer Suspensions, and CMC that is cross-linked through heat treatment. Purified CMC is CMC that has undergone one or more purification operations, which, at a minimum, reduce the remaining salt and other by-product portion of the product to less than ten percent. The merchandise subject to the orders is currently classified in the HTSUS at subheading 3912.31.00.³ This tariff classification is provided for convenience and customs purposes; however, the written description of the scope of the orders is dispositive.

³ Although HTSUS number 3912.31.00.10 may be more specific to subject merchandise, it was not created until 2005. As such, we are relying on HTSUS number 3912.31.00 for purposes of these sunset reviews because in determining whether revocation of an order would likely lead to continuation or recurrence of dumping, the Department considers the margins established in the investigation and/or reviews conducted during the sunset review period as well as the volume of imports for the periods before and after the issuance of the order. See section 752(c)(1) of the Act.

Analysis of Comments Received

All issues raised in these reviews are addressed in the “Issues and Decision Memorandum for the Expedited First Sunset Reviews of the Antidumping Duty Orders on Purified Carboxymethylcellulose from Finland, the Netherlands, and Sweden” from Susan H. Kuhbach, Acting Deputy Assistant Secretary for Antidumping and Countervailing Duty Operations, to Ronald K. Lorentzen, Deputy Assistant Secretary for Import Administration (Decision Memo), which is hereby adopted by, and issued concurrently with, this notice. The issues discussed in the Decision Memo include the likelihood of continuation or recurrence of dumping and the magnitude of the margins likely to prevail if the orders were revoked. Parties can find a complete discussion of all issues raised in these reviews and the corresponding recommendations in this public memorandum which is on file in the Central Records Unit, room 7046 of the main Department building. In addition, a complete version of the Decision Memo can be accessed directly on the Web at http://ia.ita.doc.gov/frn. The paper copy and electronic version of the Decision Memo are identical in content.

Final Results of Reviews

We determine that revocation of the antidumping duty orders on CMC from Finland, the Netherlands, and Sweden would be likely to lead to continuation or recurrence of dumping at the following weighted-average percentage margins:

Manufacturers/Exporters/Producers | Weighted-average margin (percent)
Finland:
CP Kelco Oy | 6.65
All Others Rate | 6.65
The Netherlands:
Akzo Nobel Surface Chemistry B.V.⁴ | 13.39
CP Kelco B.V. | 14.88
All Others Rate | 14.57
Sweden:
CP Kelco AB | 25.29
All Others Rate | 25.29

Notification to Interested Parties

This notice also serves as the only reminder to parties subject to administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction.

⁴ The Department preliminarily determined that Akzo Nobel Functional Chemicals B.V. is the successor-in-interest to Akzo Nobel Surface Chemistry B.V. See Purified Carboxymethylcellulose From the Netherlands; Preliminary Results of Antidumping Duty Administrative Review, 75 FR 48310 (August 10, 2010). The Department intends to issue the final results on December 8, 2010 (the deadline may be extended).

We are issuing and publishing the results and notice in accordance with sections 751(c), 752(c), and 777(i)(1) of the Act.

Dated: September 30, 2010.
Ronald K. Lorentzen,
Deputy Assistant Secretary for Import Administration.

[FR Doc. 2010-25210 Filed 10-5-10; 8:45 am]

BILLING CODE 3510-DS-P